DEPARTMENT OF COMMERCE

National Oceanic and Atmospheric Administration

50 CFR Part 648

[I.D. 062303A]

New England Fishery Management Council; Public Meeting

AGENCY: National Marine Fisheries Service (NMFS), National Oceanic and Atmospheric Administration (NOAA), Commerce.

ACTION: Public meeting.

SUMMARY: The New England Fishery Management Council (Council) will hold a 3-day Council meeting on July 15 through 17, 2003, to consider actions affecting New England fisheries in the exclusive economic zone (EEZ).

DATES: The meeting will be held on Tuesday, Wednesday, and Thursday, July 15, 16, and 17, 2003. The meeting will begin at 9:00 a.m. on Tuesday and 8:30 a.m. on Wednesday and Thursday.

ADDRESSES: The meeting will be held at the Holiday Inn by the Bay, 88 Spring Street, Portland, ME 04101; telephone (207) 775-2311. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, July 15, 2003

Following introductions, the Council will receive a report from its Herring Committee. It will be seeking approval of the goals and objectives developed for Amendment 1 to the Herring Fishery Management Plan (FMP). The Council also will receive a report and recommendations from its Scientific and Statistical Committee on the results of the U.S. and Canadian herring stock assessments as they relate to plan development. Finally, the Council staff will provide an update on the development of alternatives for analysis in the amendment. Following the herring report there will be a brief presentation by the Northeast Fisheries Science Center on the status of NEFMC-managed species reviewed at the 37th Northeast Regional Stock Assessment Workshop. The species to be discussed include witch flounder, spiny dogfish and Atlantic hagfish. The Mid-Atlantic Plans Committee will provide their recommendations for Amendment 9 to the Mid-Atlantic Fishery Management Council's Squid, Mackerel and Butterfish FMP for Council consideration and approval. The Council staff will then present a process to coordinate the development of Framework Adjustment 39 to the Northeast Multispecies FMP with scallop management actions. The framework adjustment would allow scallop vessel access, on a controlled basis, to the Georges Bank groundfish closed areas from 2004-2007. Finally, the Enforcement Committee will present its analyses of alternatives now included in amendments to the multispecies, scallop, and monkfish amendments currently under development. There also will be a review of enforcement procedures regarding trips cut short because of weather, accident or unsafe conditions, as well as a discussion of horsepower regulations and inconsistencies among FMPs.

Wednesday, July 16, 2003

There will be reports on recent activities from the Council Chairman and Executive Director (to include a review of the Council's understanding of the vessel permit upgrade baseline during development of the Monkfish FMP), the NMFS Regional Administrator, Northeast Fisheries Science Center and Mid-Atlantic Fishery Management Council liaisons, NOAA General Counsel and representatives of the U.S. Coast Guard, NMFS Enforcement and the Atlantic States Marine Fisheries Commission. Following this agenda item the Council will provide a brief opportunity for comments from the public on issues that are not otherwise listed on the agenda, but are relevant to Council business. The Council will then spend the remainder of the day on groundfish issues. Specifically, they will review, consider and approve the Northeast Multispecies Amendment 13 Draft Supplemental Environmental Impact Statement. The report will include Groundfish Advisory Panel recommendations for the amendment and Groundfish Committee recommendations, including suggested changes to the Special Access Program alternative.

Thursday, July 17, 2003

Prior to continuing with the groundfish agenda items listed from the previous day, the Council will receive a presentation on pre-draft Amendment 1 to the FMP for Atlantic Tunas, Swordfish and Sharks for the purpose of obtaining comments from Council members and the public. Any other outstanding business will be addressed before adjournment of the meeting.

Although other non-emergency issues not contained in this agenda may come before this Council for discussion, those issues may not be the subjects of formal action during this meeting. Council action will be restricted to those issues specifically listed in this notice and any issues arising after publication of this notice that require emergency action under section 305(c) of the Magnuson-Stevens Fishery Conservation and Management Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: June 24, 2003.
Bruce C. Morehead,
Acting Director, Office of Sustainable Fisheries, National Marine Fisheries Service.

[FR Doc. 03-16431 Filed 6-27-03; 8:45 am]

BILLING CODE 3510-22-S